DEPARTMENT OF TRANSPORTATION

Surface Transportation Board

[Docket No. FD 35518]

Maine Northern Railway Company—Trackage Rights Exemption—Montreal, Maine & Atlantic Railway, Ltd.

Pursuant to a written trackage rights agreement, Montreal, Maine & Atlantic Railway, Ltd. (MMA) has agreed to grant overhead trackage rights to the Maine Northern Railway Company (MNRC) between Madawaska, Me. (at or about milepost 260 on MMA's Madawaska Subdivision) and the connection to the Canadian National Railway (CN) in St. Leonard, N.B. (at or about milepost 194.1 on CN's Nappadoggin Subdivision), plus additional trackage described more completely in the agreement, which MNRC attaches to its notice.¹ MNRC recognizes that, although the trackage rights agreement covers some track in Canada, Board jurisdiction only extends to the U.S.-Canada border at Van Buren, Me.

¹ Specifically, the agreement includes trackage “* * * between MP 260 and the connection with MMA's Van Buren Subdivision at MP 264 and between the connection with MMA's Van Buren Subdivision and MP V 22.7 of the Van Buren Subdivision, and between MP V 22.7 of the Van Buren Subdivision and the connection with CN at MP 194.1 of CN's Nappadoggin Subdivision, including the trackage across the Van Buren Bridge, * * * and the track between MP V 22.7 and MP V 23.72 for headroom * * * .”

This trackage rights transaction stems from MMA's attempt to abandon a connecting line in Northern Maine. The Board granted an application to abandon that line, which is approximately 233 miles long, in a decision served in December 2010.² The 233 miles of line was then acquired by the State of Maine, by and through its Department of Transportation (State), in January 2011. The State has chosen a new operator for the 233-mile line, MNRC, and, as part of the State's agreement to acquire the line, MMA has agreed to grant these trackage rights so that MNRC can access directly CN to the north once MNRC begins to operate the line. MNRC plans to file a modified certificate under 49 CFR 1150.22 for Board authority to operate the 233-mile line.³

² See Montreal, Me. & Atl. Ry.—Discontinuance of Service and Aban.—in Aroostook and Penobscot Cntys, Me., AB 1043 (Sub-No. 1) (STB served Dec. 27, 2010).

³ The transaction in Docket No. FD 35518 is related to the following concurrently filed pleadings. In Docket No. FD 35519, Maine Northern Railway Company—Trackage Rights Exemption—Montreal, Maine & Atlantic Railway, Ltd., MNRC has filed a notice of exemption for overhead trackage rights over an MMA line to the south to access Eastern Maine Railway (EMR), to which MMA also has agreed as part of the State's acquisition of the 233-mile line. In Docket No. FD 35520, The New Brunswick Railway Company—Continuance in Control Exemption—Maine Northern Railway Company, The New Brunswick Railway Company (NBRC), the parent company of both EMR and MNRC, has filed a petition for exemption to continue in control of EMR and MNRC once MNRC becomes a Class III carrier upon filing the modified certificate. MNRC and NBRC have asked that the Board make all these exemptions effective on June 15, 2011. The Board will address their request in its decision in Docket No. FD 35520.

The transaction can be consummated on or after June 19, 2011 (30 days after the exemption was filed), unless otherwise ordered by the Board.

As a condition to this exemption, any employees affected by the trackage rights will be protected by the conditions imposed in Norfolk and Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by June 13, 2011 (at least 7 days before the exemption becomes effective), unless otherwise ordered the Board.

An original and 10 copies of all pleadings, referring to Docket No. FD 35518, must be filed with the Surface Transportation Board, 395 E Street, SW., Washington, DC 20423-0001. In addition, a copy of each pleading must be served on Karyn A. Booth, Thompson Hine LLP, Suite 800, 1920 N Street, NW., Washington, DC 20036.

Board decisions and notices are available on our Web site at http://www.stb.dot.gov.

Decided: May 31, 2011.
By the Board, Rachel D. Campbell, Director, Office of Proceedings.
Jeffrey Herzig,
Clearance Clerk.

[FR Doc. 2011-13881 Filed 6-2-11; 8:45 am]

BILLING CODE 4915-01-P